DEPARTMENT OF COMMERCE

National Oceanic and Atmospheric Administration

RIN 0648-XF463

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, June 20, 21, and 22, 2017, beginning at 9 a.m. on June 20, 8:30 a.m. on June 21, and 8:30 a.m. on June 22.

ADDRESSES: The meeting will be held at the Holiday Inn by the Bay, 88 Spring Street, Portland, ME 04101; telephone: (207) 775-2311; online at http://www.innbythebay.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, June 20, 2017

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission and the U.S Coast Guard. Following these reports, the Council will hear from its Whiting Committee, which will provide a brief progress report on Amendment 22 to the Northeast Multispecies Fishery Management Plan (FMP). The amendment is being developed to potentially limit access to the small-mesh multispecies fishery. Next, the Council will review and discuss the status of Amendment 6 to the Monkfish FMP. This amendment initially was intended to consider potential catch share management approaches for the monkfish fishery. The Council also will discuss and approve research priorities for the Monkfish Research Set-Aside Program. The Groundfish Committee report then will commence with a preview of the extensive afternoon agenda. Discussion of the first agenda item potentially could begin prior to lunch. For this item, the Council will receive a summary of the scoping comments for Groundfish Monitoring Amendment 23 and discuss the amendment's purpose and need, as well as the likely range of alternatives.

Following the lunch break, the Council will resume the groundfish monitoring discussion if necessary and spend the remainder of the afternoon on groundfish. The Council will initiate Framework Adjustment 57 to the Northeast Multispecies FMP, which will include: (1) 2018-2020 fishery specifications and other management measures; (2) 2018 total allowable catches (TACs) for U.S./Canada stocks of Eastern Georges Bank (GB) cod, Eastern GB haddock, and GB yellowtail flounder; (3) Atlantic halibut accountability measures (AMs); and (4) recreational management measures. The Council will review a draft letter with comments on the Marine Recreational Information Program Strategic Plan. Finally, the Council will consider comments on the interim final rule for 2017 and 2018 Sector Operations Plans, including whether measures or restrictions should be recommended for Sector IX due to misreporting by sector vessels. The Council then will adjourn for the day.

Wednesday, June 21, 2017

The second day of the meeting will begin with a presentation on NMFS's Stock Assessment Improvement Plan (SAIP), which will be immediately followed by a presentation on NMFS's guidance regarding the use of Best Scientific Information Available (BSIA). The Scientific and Statistical Committee (SSC) then will provide: (1) Comments on both the SAIP and BSIA; (2) comments on the Council's draft five-year research recommendations; and (3) a progress report on terms of reference for operational stock assessments when models are not feasible. The Council will discuss and consider the SSC's comments on NMFS's SAIP and BSIA guidance. Next, the Council will receive an Ecosystem-Based Fishery Management Report with an update on developing a worked example of harvest control rules for ecosystem management. This item will be followed by the Skate Committee report. The Council is scheduled to: (1) Take final action on Framework Adjustment 4 to the Northeast Skate Complex FMP to modify the skate bait trigger and possession limits currently in place for the fishery; and (2) initiate Framework Adjustment 5 to allow barndoor skate landings and develop fishing year 2018-2019 specifications. Members of the public then will be able to speak during an open comment period on issues that relate to Council business but are not included on the published agenda for this meeting. The Council asks the public to limit remarks to 3-5 minutes.

After a lunch break, the Scallop Committee first will present a report on the Limited Access General Category (LAGC) Individual Fishing Quota Five-Year Review. The Council then will approve research priorities for the 2018-2019 Scallop RSA Program. Next, the Council will receive a progress report on the development of Framework Adjustment 29, which includes: (1) Fishery specifications for the 2018 fishing year and default specifications for 2019; (2) flatfish AMs for the scallop fishery; (3) Northern Gulf of Maine (NGOM) Management Area issues; and (4) Closed Area I Scallop Access Area modifications to be consistent with pending habitat area revisions. Finally, the Council will discuss and potentially request a control date to address movement between the LAGC NGOM and LAGC incidental permit categories. The day will end with a NMFS presentation and update on the Fishery Dependent Data Visioning Project.

Thursday, June 22, 2017

The third day of the meeting will begin with an overview of draft alternatives for a Standardized Bycatch Reporting Methodology omnibus framework adjustment that is being developed to address assigning at-sea observers to the lobster pot fleet in an unbiased manner through the Northeast Fishery Observer Program. The Council then will hold a Habitat Committee meeting as a Committee of the Whole to review public comments on the Omnibus Deep-Sea Coral Amendment and develop final recommendations for Council consideration. Once the Committee of the Whole adjourns, the Habitat Committee report will get underway, starting with the Council taking final action on the Coral Amendment. Also under habitat, the Council will review and approve comments to the Department of the Interior on: (1) National monument designations under the Antiquities Act of 1906, including the Northeast Canyons and Seamounts Marine National Monument; and (2) potential environmental effects of offshore oil development on the Atlantic Outer Continental Shelf.

Following a lunch break, the Council may resume the habitat discussion if necessary. Then, the Council will develop comments on NMFS's Draft Council Conflict of Interest Policy Directives. The Council next will review Magnuson-Stevens Fishery Conservation and Management Act reauthorization legislation and potentially develop Council positions on the draft legislation. The Council will close out the meeting with “other business.”

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: May 30, 2017.
Tracey L. Thompson,
Acting Deputy Director, Office of Sustainable Fisheries, National Marine Fisheries Service.

[FR Doc. 2017-11477 Filed 6-2-17; 8:45 am]

BILLING CODE 3510-22-P